DEPARTMENT OF STATE

[Public Notice 4922]

Bureau of Political-Military Affairs; Arms Export Embargo on Côte d'Ivoire (Ivory Coast)

SUMMARY: Notice is hereby given that all licenses and other approvals to export or otherwise transfer defense articles and defense services to Côte d'Ivoire (Ivory Coast) are suspended until further notice pursuant to Sections 38 and 42 of the Arms Export Control Act (AECA).

EFFECTIVE DATE: December 14, 2004.

FOR FURTHER INFORMATION CONTACT: Stephen J. Tomchik, Directorate of Defense Trade Controls, Bureau of Political-Military Affairs, Department of State (202) 663-2799.

SUPPLEMENTARY INFORMATION: Effective immediately, it is the policy of the U.S. Government to deny all applications for licenses and other approvals to export or otherwise transfer defense articles and defense services to Côte d'Ivoire (formerly known as Ivory Coast). In addition, U.S. manufacturers and exporters and any other affected parties are hereby notified that the Department of State has suspended all previously issued licenses and approvals to export or otherwise transfer defense articles and defense services to Côte d'Ivoire. These actions have been taken in accordance with U.N. Security Council Resolution 1572, unanimously passed on November 15, 2004, which imposes an embargo on the export of arms and related material, as well as defense services, to the West African nation of Côte d'Ivoire. The embargo will remain in effect for a period of 13 months unless otherwise amended.

The resolution establishing the embargo enjoins all states to “take the necessary measures to prevent the direct or indirect supply, sale or transfer to Côte d'Ivoire, from their territories or by their nationals, or using their flag vessels or aircraft, of arms or any related materiel, in particular military aircraft and equipment, whether or not originating in their territories, as well as the provision of any assistance, advice or training related to military activities''.

The resolution establishes several exceptions under which the embargo will not apply, namely:

(a) Supplies and technical assistance intended solely for the support of or use by UNOCI (United Nations Operations in Côte d'Ivoire) and the French forces who support them;

(b) Supplies of non-lethal military equipment intended solely for humanitarian or protective use, and related technical assistance and training, as approved in advance by a representative committee consisting of all the members of the Security Council;

(c) Supplies of protective clothing, including flak jackets and military helmets, temporarily exported to Côte d'Ivoire by United Nations personnel, representatives of the media and humanitarian and development workers and associated personnel, for their personal use only;

(d) Supplies temporarily exported to Côte d'Ivoire to the forces of a State which is taking action, in accordance with international law, solely and directly to facilitate the evacuation of its nationals and those for whom it has consular responsibility in Côte d'Ivoire, as notified in advance to the representative committee consisting of all the members of the Security Council; and

(e) Supplies of arms and related materiel and technical training and assistance intended solely for support of or use in the process of restructuring defense and security forces as approved in advance by the representative committee consisting of all the members of the Security Council.

U.S. exporters are advised that, effective November 16, 2004, no application for the export to Ivory Coast of defense articles or services covered by the International Traffic in Arms Regulations (ITAR) will be approved. Exceptions to this policy will be made, in accordance with the ITAR, on a case-by-case basis for proposed exports that conform to the conditions specified in (a) through (e) above. Any existing license or authorization for the export to Ivory Coast of ITAR-controlled defense articles or services is hereby suspended. Holders of existing licenses and authorizations for exports to Ivory Coast must submit documentation for review by the Directorate of Defense Trade Controls (DDTC) supporting the meeting of one of the exceptions cited above prior to DDTC lifting the suspension.

This action has been taken pursuant to Sections 38 and 42 of the AECA (22 U.S.C. 2778, 2791) and Section 126.7 of the ITAR in furtherance of the foreign policy of the United States.

Dated: December 6, 2004.
Rose M. Likins,
Acting Assistant Secretary, Political-Military Affairs, Department of State.

[FR Doc. 04-27353 Filed 12-13-04; 8:45 am]

BILLING CODE 4710-25-P